GENERAL SERVICES ADMINISTRATION

[Notice-OGP-2026-01; Docket No. 2026-0002; Sequence No. 02

High- Performance Building Advisory Committee Notice of Re-Launch and Request for Membership Nominations

AGENCY: Office of Government-wide Policy, General Services Administration (GSA).

ACTION: Notice of re-launch and request for membership nominations.

SUMMARY: This notice invites qualified candidates to apply for an appointment to serve as a member of GSA's High-Performance Building Advisory Committee. The High-Performance Building Advisory Committee provides advice to GSA as a statutorily required Federal advisory committee. This is a competitive process for multiple open membership seats.

DATES: Nominations will be considered on a rolling basis, and should be submitted to jed.ela@gsa.gov. GSA anticipates making multiple rounds of appointments during the calendar year 2026.

FOR FURTHER INFORMATION CONTACT: Mr. Jed Ela, Office of Government-wide Policy, GSA, at jed.ela@gsa.gov or 202-854-8804.

SUPPLEMENTARY INFORMATION:

Background

As required by applicable statutes and Administration policies, GSA is re-launching its premiere independent advisory committee on high-performance building design and operations as the High-Performance Building Advisory Committee (“HBAC”) and is seeking nominations to serve on the HBAC.

GSA is re-launching the HBAC, formerly known as the Green Building Advisory Committee (“GBAC”), to advance the Trump Administration's priorities for the Federal building portfolio, including:

Improving Our Nation Through Better Design (E.O. 14338)

Making Federal Architecture Beautiful Again (E.O. 14344)

Unleashing American Energy (E.O. 14154)

HBAC members are expected to advise GSA on key topics of agency interest including optimization of the Federal real estate portfolio, returning all Federal employees to in-office work, adoption of artificial intelligence, unleashing affordable American energy sources, and saving taxpayer dollars through the elimination of waste.

The Administrator of the GSA established the HBAC (formerly GBAC) on June 20, 2011 (76 FR 35894) pursuant to section 494 of the Energy Independence and Security Act of 2007 (42 U.S.C. 17123, or EISA), in accordance with the provisions of the Federal Advisory Committee Act (FACA), as amended (5 U.S.C. 1001 et seq.). These statutes make clear that GSA's duty to operate the Committee is mandatory and ongoing, including by specifically exempting the Committee from the general sunset provision of FACA.

EISA requires that the Committee include specific categories of members, including state and local government building experts, independent building associations or councils, building industry experts, emergency planning and security advisors, public transportation experts, and environmental health specialists. See 42 U.S.C. 17123. Therefore, GSA is specifically seeking nominations in these areas.

Member Responsibilities

New Committee members will be appointed to a three-year term. Membership is limited to the specific individuals appointed and is non-transferrable. Committee members are expected to personally attend all meetings, review all Committee materials, and actively provide their advice and input on topics covered by the Committee. Committee members will not receive compensation, nor will they receive travel reimbursements from the Government except where a need has been demonstrated and funds are available.

Request for Membership Nominations

This notice provides an opportunity for individuals, or others on their behalf, to present their qualifications to serve as a member on the Committee. GSA encourages nominations from people of all communities, identities, races, ethnicities, backgrounds, abilities, cultures, and beliefs. No person appointed to serve in an individual capacity shall be a federally registered lobbyist in accordance with the Presidential Memorandum “Lobbyists on Agency Boards and Commissions” (June 18, 2010) and OMB Final Guidance published in the Federal Register on October 5, 2011, and revised on August 13, 2014.

Nomination Process for Advisory Committee Appointment

Individuals may nominate themselves or others. All nominees should have:

At least 5 years of high-performance building experience, which may include a combination of project-based, research and policy experience.

Academic degrees, certifications and/or training demonstrating high-performance building and related expertise.

Knowledge of Federal laws, programs, and requirements related to high-performance federal buildings.

Proven ability to work effectively in a collaborative, multidisciplinary environment.

Qualifications appropriate to a specific statutory category of members listed above.

A nomination package shall include the following information for each nominee:

(1) A letter of nomination stating the name, title and organization of the nominee, nominee's field(s) of expertise, specific qualifications to serve on the Committee, and description of interest and qualifications;

(2) A professional resume or CV; and

(3) Complete contact information including name, return address, email address, and daytime telephone number of the nominee and nominator.

GSA reserves the right to choose Committee members based on qualifications, experience, Committee balance, statutory requirements and all other factors deemed critical to the success of the Committee. Candidates under consideration may be asked to provide specific financial information to ensure that the interests and affiliations of advisory committee members are reviewed for conformance with applicable conflict of interest statutes and other Federal ethics rules.

Patrick Dale,
EISA Compliance Coordinator, Office of Government-wide Policy, General Services Administration.

[FR Doc. 2026-04210 Filed 3-3-26; 8:45 am]

BILLING CODE 6820-61-P